ENVIRONMENTAL PROTECTION AGENCY

[EPA-HQ-OPPT-2017-0647; FRL-9986-78-OEI]

Agency Information Collection Activities; Renewal Request Submitted to OMB for Review and Approval; Comment Request; PCBs, Consolidated Reporting and Record Keeping Requirements

AGENCY: Environmental Protection Agency (EPA).

ACTION: Notice.

SUMMARY: The Environmental Protection Agency (EPA) has submitted the following information collection request (ICR) to the Office of Management and Budget (OMB) for review and approval in accordance with the Paperwork Reduction Act (PRA): “PCBs, Consolidated Reporting and Record Keeping Requirements” and identified by EPA ICR Number 1446.12 and OMB Control Number 2070-0112. The ICR, which is available in the docket along with other related materials provides a detailed explanation of the collection activities and the burden estimate that is only briefly summarized in this document. This is a request to renew the approval of an existing ICR, which is currently approved through November 30, 2018. EPA previously provided a 60-day public review opportunity via the Federal Register on August 27, 2018. With this submission, EPA is providing an additional 30-days for public review.

DATES: Comments must be received on or before December 27, 2018.

ADDRESSES: Submit your comments, identified by docket identification (ID) number [EPA-HQ-OPP-2017-0647, to both EPA and OMB as follows: To (1) EPA online using http://www.regulations.gov (our preferred method) or by mail to: EPA Docket Center, Environmental Protection Agency, Mail Code 28221T, 1200 Pennsylvania Ave. NW, Washington, DC 20460 and (2) OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT:

For technical information contact: Peter Gimlin, National Program Chemicals Division (7404T), Office of Pollution Prevention and Toxics, Environmental Protection Agency, 1200 Pennsylvania Ave. NW, Washington, DC 20460-0001; telephone number: (202) 566-0515; email address: Gimlin.Peter@epa.gov.

For general information contact: TSCA-Hotline, ABVI-Goodwill, 422 South Clinton Ave., Rochester, NY 14620; telephone number: (202) 554-1404; email address: TSCA-Hotline@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This is a request to renew the approval of an existing ICR, which is currently approved through November 30, 2018. EPA did not receive any comments in response to the previously provided 60-day public review opportunity (83 FR 43675, August 27, 2018) (FRL-9982-52). Under the PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This ICR covers the information collection activities that implement the statutory mandates in section 6(e) of the Toxic Substances Control Act (TSCA) related to polychlorinated biphenyls (PCBs), 15 U.S.C. 2605(e). Specifically, TSCA section 6(e)(1) directs EPA to regulate the marking and disposal of PCBs. Section 6(e)(2) bans the manufacturing, processing, distribution in commerce, and use of PCBs in other than a totally enclosed manner. Section 6(e)(3) establishes a process for obtaining exemptions from the prohibitions on the manufacture, processing, and distribution in commerce of PCBs. Implementing regulations have been codified in 40 CFR part 761, and include approximately 100 specific reporting, third-party reporting, and recordkeeping requirements. The regulations are intended to prevent the improper handling and disposal of PCBs and to minimize the exposure of human beings or the environment to PCBs.

Responses to the collection of information are mandatory (see 40 CFR part 761). Respondents may claim all or part of a response confidential. EPA will disclose information that is covered by a claim of confidentiality only to the extent permitted by, and in accordance with, the procedures in TSCA section 14 and 40 CFR part 2.

Form numbers: 7720-12 and 7710-53.

Respondents/affected entities: Entities potentially affected by this ICR are persons who currently possess PCB items, PCB-contaminated equipment or other PCB waste.

Respondent's obligation to respond: Mandatory.

Estimated number of respondents: 87,190 (total).

Frequency of response: On occasion.

Total estimated burden: 681,407 hours (per year). Burden is defined at 5 CFR 1320.3(b).

Total estimated cost: $30,374,118 (per year), includes $0 annualized capital or operation & maintenance costs.

Changes in the estimates: This request reflects a decrease of 64,519 hours in the total estimated respondent burden from that currently in the OMB inventory. The changes in the total annual respondent reporting and recordkeeping burdens and costs are due to updates to the most current wage rate data and to revisions to the total number of respondents. The revisions to total number of respondents are the result of new data gathered for this ICR effort, updated Agency data regarding total numbers of regulated entities, and the overlapping coverage of the recently revised Universal Hazardous Waste Manifest ICR (OMB Control No. 2050-0039). The ICR supporting statement provides a detailed analysis of the change in burden estimate. This change is an adjustment.

Dated: November 16, 2018.
Courtney Kerwin,
Director, Collection Strategies Division.

[FR Doc. 2018-25775 Filed 11-26-18; 8:45 am]

BILLING CODE 6560-50-P